FEDERAL COMMUNICATIONS COMMISSION

47 CFR Part 73

[DA 00-172, MM Docket No. 00-18, RM-9790]

Radio Broadcasting Services; Douglas, Pembroke and Willacoochee, GA; Barnwell, SC

AGENCY: Federal Communications Commission.

ACTION: Proposed rule.

SUMMARY: The Commission requests comments on a petition filed by Bullie Broadcasting Corporation, licensee of Station WBAW-FM, Barnwell, SC, seeking: The substitution of Channel 257C1 for Channel 256C3 at Barnwell, SC, the reallotment of Channel 257C1 from Barnwell, SC to Pembroke, GA, as the community's first local aural service, and the modification of Station WBAW-FM's license accordingly; the reallotment of Channel 258C1 from Douglas, GA, to Willacoochee, GA, as the community's first local aural service, and the modification of Station WDMG-FM's license accordingly, and the allotment of Channel 256C3 to Barnwell, SC, as a “back-fill” channel. Channel 257C1 can be allotted to Pembroke in compliance with the Commission's minimum distance separation requirements with a site restriction of 17.8 kilometers (11.1 miles) south, at coordinates 32-11-13 NL; 81-48-04 WL, to avoid a short-spacing to Station WYKZ, Channel 254C1, Beaufort, SC, and Station WQIK-FM, Channel 256C, Jacksonville, FL, and to accommodate petitioner's desired transmitter site. Channel 258C1 can be allotted to Willacoochee with a site restriction of 34.5 kilometers (21.4 miles) west, at coordinates 31-20-27 NL; 83-24-30 WL, to avoid a short-spacing to proposed Channel 257C1 at Pembroke and accommodate petitioner's desired site. Channel 256C3 can be reallotted to Barnwell with a site restriction of 19.6 kilometers (12.2 miles) north, at coordinates 33-24-29 NL; 81-16-43 WL, to avoid a short-spacing to Channel 257C1 at Pembroke.

DATES: Comments must be filed on or before March 23, 2000, and reply comments on or before April 7, 2000.

ADDRESSES: Federal Communications Commission, 445 12th Street, S.W., Room TW-A325, Washington, DC 20554. In addition to filing comments with the FCC, interested parties should serve the petitioner, or its counsel or consultant, as follows: J. Geoffrey Bently, P.C., P.O. Box 807, Herndon, VA 20172-0807 (Counsel to petitioner).

FOR FURTHER INFORMATION CONTACT: Leslie K. Shapiro, Mass Media Bureau, (202) 418-2180.

SUPPLEMENTARY INFORMATION: This is a synopsis of the Commission's Notice of Proposed Rule Making, MM Docket No. 00-18, adopted January 27, 2000, and released February 1, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 00-3633 Filed 2-15-00; 8:45 am]

BILLING CODE 6712-01-P